DEPARTMENT OF COMMERCE

International Trade Administration

[A-570-835]

Furfuryl Alcohol From the People's Republic of China: Final Results of Expedited Third Sunset Review of the Antidumping Duty Order

AGENCY: Import Administration, International Trade Administration, Department of Commerce.

SUMMARY: On September 1, 2011, the Department of Commerce (“Department”) initiated the third five-year (“sunset”) review of the antidumping duty order on furfuryl alcohol from the People's Republic of China (“PRC”) pursuant to section 751(c) of the Tariff Act of 1930, as amended (“the Act”). On the basis of a notice of intent to participate, and an adequate substantive response filed on behalf of the domestic interested party, as well as a lack of response from respondent interested parties, the Department conducted an expedited sunset review of the antidumping duty order, pursuant to section 751(c)(3)(B) of the Act and 19 CFR 351.218(e)(1). As a result of the sunset review, the Department finds that revocation of the antidumping duty order on furfuryl alcohol from the PRC would be likely to lead to continuation or recurrence of dumping at the levels indicated in the “Final Results of Review” section of this notice.

DATES: Effective Date: December 19, 2011.

FOR FURTHER INFORMATION CONTACT: Jennifer Moats, AD/CVD Operations, Import Administration, International Trade Administration, U.S. Department of Commerce, 14th Street and Constitution Avenue NW, Washington, DC 20230; telephone: (202) 482-5047.

SUPPLEMENTARY INFORMATION:

Background

On June 1, 2011, the Department initiated the third sunset review of the antidumping duty order on furfuryl alcohol from the PRC, pursuant to section 751(c) of the Act and 19 CFR 351.218(c)(2).¹ The Department received a notice of intent to participate from Penn A Kem LLC (“the domestic interested party”) within the deadline specified in 19 CFR 351.218(d)(1)(i). The domestic interested party claimed interested party status under section 771(9)(C) of the Act, as a manufacturer of a domestic like product in the United States.

¹ See Initiation of Five-Year (“Sunset”) Review, 76 FR 54430 (September 1, 2011); see also Notice of Antidumping Duty Order: Furfuryl Alcohol From the People's Republic of China (“PRC”), 60 FR 32302 (June 21, 1995) (“Order”).

We received a complete substantive response from the domestic interested party within the 30-day deadline specified in 19 CFR 351.218(d)(3)(i). We received no responses from respondent interested parties. As a result, the Department conducted an expedited sunset review of the Order, pursuant to 19 CFR 351.218(e)(1).

Scope of the Order

The merchandise covered by the order is furfuryl alcohol (C4H3OCH2OH). Furfuryl alcohol is a primary alcohol, and is colorless or pale yellow in appearance. It is used in the manufacture of resins and as a wetting agent and solvent for coating resins, nitrocellulose, cellulose acetate, and other soluble dyes.

The product subject to the order is classifiable under subheading 2932.13.00 of the Harmonized Tariff Schedule of the United States (“HTSUS”). Although the HTSUS subheading is provided for convenience and customs purposes, our written description of the scope of this proceeding is dispositive.

Analysis of Comments Received

All issues raised in this review are addressed in the “Issues and Decision Memorandum for the Final Results of the Expedited Third Sunset Review of the Antidumping Duty Order on Furfuryl Alcohol from the People's Republic of China” (“Decision Memorandum”) from Christian Marsh, Deputy Assistant Secretary for Antidumping and Countervailing Duty Operations, to Paul Piquado, Assistant Secretary for Import Administration, dated concurrently with and hereby adopted by this notice. The issues discussed in the Decision Memorandum include the likelihood of continuation or recurrence of dumping and the magnitude of the margins likely to prevail if the order was to be revoked. Parties may find a complete discussion of all issues raised in the review and the corresponding recommendations in this public memorandum which is on file electronically via Import Administration's Antidumping and Countervailing Duty Centralized Electronic Services System (“IA ACCESS”). Access to IA ACCESS is available in the Central Records Unit Room 7046 of the main Commerce building. In addition, a complete version of the Decision Memorandum can be access directly on the Web at http://ia.ita.doc.gov/frn. The signed Decision Memorandum and the electronic versions of the Decision Memorandum are identical in content.

Final Results of Review

We determine that revocation of the Order would be likely to lead to continuation or recurrence of dumping at the following weighted-average percentage margins:

Manufacturers/exporters/ producers | Weighted-average margin (percent)
Qingdao Chemicals & Medicines & Health Products Import & Export Company | 50.43
Sinochem Shandong Import and Export Company | 43.54
PRC-Wide Entity | 45.27

Notice Regarding Administrative Protective Order (“APO”)

This notice also serves as the only reminder to parties subject to APO of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752, and 771(i)(1) of the Act.

Dated: December 12, 2011.
Paul Piquado,
Assistant Secretary for Import Administration.

[FR Doc. 2011-32442 Filed 12-16-11; 8:45 am]

BILLING CODE 3510-DS-P